DEPARTMENT OF TRANSPORTATION

Coast Guard

33 CFR Part 100

[CGD07-00-124]

RIN 2115-AE46

Special Local Regulations; Hillsborough Bay, Tampa, FL

AGENCY: Coast Guard, DOT.

ACTION: Temporary final rule.

SUMMARY: The Coast Guard is temporarily modifying the special local regulation for the annual Gasparilla Marine Parade in Tampa, Florida. The event sponsor changed the event time and date for this year from the first Saturday in February, 2001, to January 27, 2001. These regulations are needed to provide for the safety of life on navigable waters during the event.

DATES: This rule is effective from 8 a.m. to 6 p.m. EST on January 27, 2001.

ADDRESSES: Comments and material received from the public, as well as documents indicated in this preamble as being available in the docket, are part of docket CGD 07-00-124 and are available for inspection or copying at Commander, Coast Guard Group St. Petersburg, 600 8th Avenue, S.E., St. Petersburg, FL 33701, between 9 a.m. and 4 p.m., Monday through Friday, except Federal holidays.

FOR FURTHER INFORMATION CONTACT: Chief Quartermaster Stephen Aykroyd Coast Guard Group St. Petersburg, Florida at (727) 824-7554.

SUPPLEMENTARY INFORMATION:

Regulatory Information

We did not publish a notice of proposed rulemaking (NPRM) for this regulation. Under 5 U.S.C. 553(b)(B), the Coast Guard finds that good cause exists for not publishing an NPRM. Publishing an NPRM would have been impracticable, as there was not sufficient time remaining after the changes to the event time and date were finalized.

For the same reasons, under 5 U.S.C. 553(d)(3), the Coast Guard finds that good cause exists for making this rule effective less than 30 days after publication in the Federal Register.

Background and Purpose

Ye Mystic Krewe of Gasparilla is sponsoring the annual Parade of Pirates in Hillsborough Bay on January 27, 2001. There will be approximately four hundred (400) spectator craft. A special local regulation exists at 33 C.F.R. 100.734 for this event which is usually held on the first Saturday in February. However, the sponsor changed the date for this year. These regulations are intended to promote safe navigation on the waters of Tampa Bay by controlling the traffic entering, exiting, and traveling within the regulated area.

Regulatory Evaluation

This rule is not a significant regulatory action under section 3(f) of Executive Order 12866 and does not require an assessment of potential costs and benefits under section 6(a)(3) of that order. The Office of Management and Budget has exempted it from review under that order. It is not significant under the regulatory policies and procedures of the Department of Transportation (DOT) (44 FR 11040; February 26, 1979). The Coast Guard expects the economic impact of this rule to be so minimal that a full Regulatory Evaluation under paragraph 10e of the regulatory policies and procedures of DOT is unnecessary. Entry into the regulated area is prohibited for only approximately 10 hours.

Small Entities

Under the Regulatory Flexibility Act (5 U.S.C. 601-612) we considered whether this rule will have a significant economic impact on a substantial number of small entities. The term “small entities” comprises small businesses, not-for-profit organizations that are independently owned and operated and are not dominant in their field, and governmental jurisdictions with populations of less than 50,000.

The Coast Guard certifies under 5 U.S.C. 605(b) that this rule will not have a significant economic impact on a substantial number of small entities. This rule may affect the following entities, some of which may be small entities: the owners or operators of vessels intending to transit or anchor in the northern part of Hillsborough Bay on January 27, 2001 from 8 a.m. to 6 p.m.

This special local regulation will not have a significant economic impact on a substantial number of small entities because the regulation will only be in effect for 10 hours in a limited area.

Collection of Information

This rule contains no collection of information requirements under the Paperwork Reduction Act of 1995 (44 U.S.C. 3501-3520).

Federalism

We have analyzed this rule under Executive Order 13132 and have determined that the rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environmental Assessment

The Coast Guard has considered the environmental impact of this action and has determined under Figure 2-1, paragraph 34(h) of Commandant Instruction M16475.1C, that this rule is categorically excluded from further environmental documentation.

List of Subjects in 33 CFR Part 100

Marine safety, Navigation (water), Reporting and recordkeeping requirements, Waterways.

For the reasons discussed in the preamble, the Coast Guard amends 33 CFR Part 100 as follows:

PART 100—MARINE EVENTS

1. The authority citation for Part 100 continues to read as follows:

Authority: 33 U.S.C. 1233, 49 CFR 1.46 and 33 CFR 100.35.

2. Temporarily suspend § 100.734 and add temporary § 100.35T-00-124 to read as follows:

§ 100.35T-00-124 Annual Gasparilla Marine Parade, Hillsborough Bay, Tampa, FL.

(a) Regulated Area. A regulated area is established consisting of all waters of Hillsborough Bay and its tributaries north of a line drawn along latitude 27-51.30N. The regulated area includes the following in their entirety: Hillsborough Cut “D” Channel, Sparkman Channel, Ybor Channel, Seddon Channel and the Hillsborough River south of the John F. Kennedy Bridge. Coordinates Reference Datum: NAD 1983.

(b) Special local regulations. (1) Entry into the regulated area is prohibited to all commercial marine traffic from 8 a.m. to 6 p.m. EST on January 27, 2001.

(2) The regulated area is an idle speed, “no wake” zone.

(3) All vessels within the regulated area shall stay clear of and give way to all vessels in parade formation in the Gasparilla Marine Parade.

(4) When within the marked channels of the parade route, vessels participating in the Gasparilla Marine Parade may not exceed the minimum speed necessary to maintain steerage.

(5) Personnel water craft and vessels without mechanical propulsion are prohibited from the parade route.

(6) Northbound vessels in excess of 80 feet in length without mooring arrangements made prior to January 27, 2001, are prohibited from entering Seddon Channel unless the vessel is officially entered in the Gasparilla Marine Parade. All northbound vessels in excess of 80 feet without prior mooring arrangements not officially entered in the Gasparilla Marine Parade, must use the alternate route through Sparkman Channel.

(c) Date. This rule is effective from 8 a.m. to 6 p.m. EST on January 27, 2001.

Dated: December 27, 2000.
G.W. Sutton,
Captain, U.S. Coast Guard, Commander, Seventh Coast Guard District, Acting.

[FR Doc. 01-345 Filed 1-4-01; 8:45 am]

BILLING CODE 4910-15-U